OFFICE OF THE UNITED STATES TRADE REPRESENTATIVE

Generalized System of Preferences (GSP): Request For Public Comments

AGENCY: Office of the United States Trade Representative.

ACTION: Request for comments and notice of public hearing.

SUMMARY: Legislation authorizing the Generalized System of Preferences (GSP) program expires on December 31, 2006. As Congress considers re-authorization of the program, the Trade Policy Staff Committee (TPSC) is reviewing whether the Administration's operation of the program should be changed so that benefits are not focused on trade from a few countries and developing countries that traditionally have not been major traders under the program receive benefits. The TPSC will conduct a public hearing and is requesting public comment on this subject.

DATES: The schedule for the public hearing and solicitation of public comments follows:

October 21, 2005: Deadline for requests to appear at the Trade Policy Staff Committee Public Hearing and deadline for written pre-hearing brief or statement. Request to include name, address, telephone, fax, e-mail address, and witness's organization, if any.

November 3, 2005: Public Hearing: Rooms 1 and 2, 1724 F Street, NW., Washington, DC (If necessary, the hearing will continue on the next day.) November 14, 2005: Deadline for submission of written public comments and post-hearing and rebuttal briefs.

SUPPLEMENTARY INFORMATION: The TPSC is seeking written comments and testimony at a public hearing on the following issues: (1) Whether operation of the GSP program should be modified so that beneficiaries that have not previously been major traders under the program increase their participation, which will assist them in using trade to promote their economic development; and (2) Whether some beneficiaries are sufficiently competitive with respect to trade in eligible products and have expanded exports to the extent that they should no longer be designated as GSP beneficiaries.

The TPSC is also seeking comments on the period for which the Congress should reauthorize the GSP program. Note: the TPSC is not seeking information of the type provided in connection with its annual review of product coverage and competitive need limits under the GSP program.

In 2004, the top ten GSP beneficiary developing countries by trade volume (not including trade in petroleum products) were India, Brazil, Thailand, Indonesia, Turkey, Philippines, South Africa, Venezuela, Argentina, and Russia.

Notice of Public Hearing

The TPSC will hold a hearing on November 3, 2005, beginning at 10 a.m., in Rooms 1 and 2, 1724 F Street NW., Washington, DC. If necessary, the hearing will continue on the next day. The hearing will be open to the public and a transcript of the hearing will be made available for public inspection or can be purchased from the reporting company. No electronic media coverage will be allowed.

Each interested party wishing to make an oral presentation at the hearing must submit, following the “Requirements for Submissions” below, the name, address, telephone number, facsimile number, and e-mail address, if available, of the witness(es) representing the party to Marideth Sandler, Executive Director of the GSP Program and Chairman of the TPSC GSP Subcommittee, by 5 p.m., October 21, 2005. Requests to present oral testimony in connection with the public hearing must be accompanied by a written brief or statement, in English, and also must be received by 5 p.m., October 21, 2005. Oral testimony before the GSP Subcommittee of the TPSC will be limited to five-minute presentations that summarize or supplement information contained in briefs or statements submitted for the record. Post-hearing briefs or statements will be accepted if they conform with the regulations cited below and are submitted, in English, by 5 p.m., November 14, 2005. Parties not wishing to appear at the public hearing may submit post-hearing written briefs or statements, in English, by 5 p.m., November 14, 2005.

Requirements for Submission

In order to facilitate prompt processing of submissions, USTR strongly urges and prefers electronic e-mail submissions only in response to this notice. Hand-delivered submissions will not be accepted. These submissions should be single-copy transmissions in English with the total submission not to exceed 20 single-spaced standard letter-size pages. E-mail submissions should use the following subject line: “2005 GSP Review” and, as appropriate “Notice of Intent to Testify” or Written Comments.” Documents must be submitted in English in one of the following formats: MSWord (.DOC), WordPerfect (.WPD), or text (.TXT) files. Documents may not be submitted as electronic image files or contain imbedded images (for example, “.JPG,” “.TIF,” “.PDF,” “.BMP,” or “.GIF”). Supporting documentation submitted as spreadsheets are acceptable as Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking will be considered public documents. For any document containing business confidential information submitted as an electronic attached file to an e-mail transmission, the file name of the business confidential version should begin with the characters “BC-”, and the file name of the public version should begin with the characters “P-”. The “P-” or “BC-” should be followed by the name of the party (government, company, union, association, etc.) making the submission.

E-mail submissions should not include separate cover letters or messages in the message area of the e-mail; information that might appear in any cover letter should be included directly in the attached file containing the submission itself, including the sender's e-mail address and other identifying information.

The e-mail address for these submissions is FR0052@USTR.EOP.GOV. Documents not submitted in accordance with these instructions might not be considered in this review. If unable to provide submissions by e-mail, please contact the GSP Subcommittee to arrange for an alternative method of transmission.

Public versions of all documents relating to this review will be available for review approximately two weeks after the relevant due date by appointment in the USTR public reading room, 1724 F Street NW., Washington, DC. Appointments may be made from 9:30 a.m. to noon and 1 p.m. to 4 p.m., Monday through Friday, by calling (202) 395-6186.

FOR FURTHER INFORMATION CONTACT: For procedural questions concerning written comments or participation in the public hearing, contact Regina Teeter, (202) 395-9681. All other questions should be directed to Marideth Sandler, Executive Director of the GSP Program, Office of the United States Trade Representative, 1724 F Street, NW., Room F-220, Washington, DC 20508, (202) 395-6971.

Carmen Suro-Bredie,
Chairman, Trade Policy Staff Committee.

[FR Doc. 05-20089 Filed 10-5-05; 8:45 am]

BILLING CODE 3190-W5-P